DEPARTMENT OF LABOR

Employment and Training Administration

[TA-W-53,039A]

Planar Systems, Inc., Medical Business Unit, Dome Imaging Systems, Waltham, MA; Amended Certification Regarding Eligibility To Apply for Worker Adjustment Assistance

In accordance with Section 223 of the Trade Act of 1974 (19 U.S.C. 2273), the Department of Labor issued a Certification of Eligibility to Apply for Worker Adjustment Assistance on October 24, 2003, applicable to workers of Planar Systems, Inc., Medical Business Unit, Waltham, Massachusetts. The notice was published in the Federal Register on November 28, 2003 (68 FR 66878-68779).

At the request of a company official, the Department reviewed the certification for workers of the subject firm. The workers produce flat panel displays and related products.

New information shows that in April 2002, Planar Systems, Inc. purchased Dome Imaging Systems located in Waltham, Massachusetts. Workers separated from employment at the Waltham, Massachusetts location of the subject firm had their wages reported under the separate Unemployment Insurance (UI) tax account for Dome Imaging Systems.

Accordingly, the Department is amending the certification to properly reflect this matter.

The intent of the Department's certification is to include all workers of Planar Systems, Inc. who were adversely affected by increased company imports.

The amended notice applicable to TA-W-53,039A is hereby issued as follows:

All workers of Planar Systems, Inc. Medical Business Unit, Dome Imaging Systems, Waltham, Massachusetts (TA-W-53,039A), who became totally or partially separated from employment on or after September 23, 2002, through October 24, 2005, are eligible to apply for adjustment assistance under Section 223 of the Trade Act of 1974.

Signed at Washington, DC this 20th day of April 2006.
Richard Church,
Certifying Officer, Division of Trade Adjustment Assistance.

[FR Doc. E6-6812 Filed 5-4-06; 8:45 am]

BILLING CODE 4510-30-P